DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT:

OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treas.gov/ofac).

Notice of OFAC Actions

On May 22, 2018, OFAC determined that the property and interests in property subject to U.S. jurisdiction of the following persons are blocked under the relevant sanctions authorities listed below.

Individuals

1. AZARPISHEH, Mehdi (a.k.a. “MANSURI, Mehdi”), Iran; DOB 31 Jul 1983; Additional Sanctions Information—Subject to Secondary Sanctions; Gender Male; Passport 26338775 (individual) [SDGT] [IRGC] [IFSR] (Linked To: ISLAMIC REVOLUTIONARY GUARD CORPS (IRGC)-QODS FORCE).

Designated pursuant to section 1(c) of Executive Order 13224 of September 23, 2001, “Blocking Property and Prohibiting Transactions With Persons Who Commit, Threaten to Commit, or Support Terrorism,” (E.O. 13224) for acting for or on behalf of, Iran's ISLAMIC REVOLUTIONARY GUARD CORPS-QODS FORCE, a person determined to be subject to E.O. 13224.

2. JA'FARI, Mohammad Agha (a.k.a. “JA'FARI, Mohammad”), Iran; DOB 1966; alt. DOB 1967; POB Kashan, Iran; Additional Sanctions Information—Subject to Secondary Sanctions; Gender Male (individual) [SDGT] [IRGC] [IFSR] (Linked To: ISLAMIC REVOLUTIONARY GUARD CORPS AL-GHADIR MISSILE COMMAND).

Designated pursuant to section 1(c) of E.O. 13224 for acting for or on behalf of, Iran's ISLAMIC REVOLUTIONARY GUARD CORPS AL GHADIR MISSILE COMMAND, a person determined to be subject to E.O. 13224.

3. KAZEMABAD, Mahmud Bagheri (a.k.a. BAGHERI, Mahmud Kazemabad; a.k.a. BAGHERI-KAZEMABAD, Mahmud; a.k.a. KAZEMABAD, Mahmoud Bagheri; a.k.a. KZEMABAD, Mahmoud Bagheri; a.k.a. “BAGHERI, Mahmoud”; a.k.a. “BAGHERI, Mahmud”), Iran; DOB 26 Jun 1965; POB Meybod, Iran; nationality Iran; Additional Sanctions Information—Subject to Secondary Sanctions; Gender Male; Passport J32377129 (Iran) expires 31 Aug 2020; National ID No. 448947941 (Iran) (individual) [SDGT] [IRGC] [IFSR] (Linked To: ISLAMIC REVOLUTIONARY GUARD CORPS AL-GHADIR MISSILE COMMAND).

Designated pursuant to section 1(c) of E.O. 13224 for acting for or on behalf of, Iran's ISLAMIC REVOLUTIONARY GUARD CORPS AL GHADIR MISSILE COMMAND, a person determined to be subject to E.O. 13224.

4. SHIR AMIN, Javad Bordbar (a.k.a. BORDBARSHERAMIN, Javad; a.k.a. BORDBARSHERAMIN, Javad Ali; a.k.a. “BORDBAR, Javad”), Iran; DOB 27 Oct 1981; nationality Iran; Additional Sanctions Information—Subject to Secondary Sanctions; Gender Male; Passport A37845408 expires 24 Aug 2021 (individual) [SDGT] [IRGC] [IFSR] (Linked To: ISLAMIC REVOLUTIONARY GUARD CORPS).

Designated pursuant to section 1(c) of E.O. 13224 for acting for or on behalf of, Iran's ISLAMIC REVOLUTIONARY GUARD CORPS, a person determined to be subject to E.O. 13224.

5. TEHRANI, Sayyed Mohammad Ali Haddadnezhad (a.k.a. HADDADNEZHAD, Sayyed Mohammad Ali Jalal), Iran; DOB 1970; nationality Iran; Additional Sanctions Information—Subject to Secondary Sanctions; Gender Male; Passport 32371002 (individual) [NPWMD] [IRGC] [IFSR] (Linked To: ISLAMIC REVOLUTIONARY GUARD CORPS RESEARCH AND SELF-SUFFICIENCY JEHAD ORGANIZATION).

Designated pursuant to section 1(a)(iii) of Executive Order 13382 of June 28, 2005, “Blocking Property of Weapons of Mass Destruction Proliferators and Their Supporters” (“E.O. 13382”), for having provided, or attempted to provide, financial, material, technological or other support for, or goods or services in support of, Iran's ISLAMIC REVOLUTIONARY GUARD CORPS RESEARCH AND SELF-SUFFICIENCY JEHAD ORGANIZATION, a person whose property and interests in property are blocked pursuant to E.O. 13382.

Designated pursuant to section 1(a)(iv) of E.O. 13382 for acting or purporting to act for or on behalf, directly or indirectly, Iran's ISLAMIC REVOLUTIONARY GUARD CORPS RESEARCH AND SELF-SUFFICIENCY JEHAD ORGANIZATION, a person whose property and interests in property are blocked pursuant to E.O. 13382.

Dated: May 22, 2018.
Andrea M. Gacki,
Acting Director, Office of Foreign Assets Control.

[FR Doc. 2018-11318 Filed 5-24-18; 8:45 am]

BILLING CODE 4810-AL-P